DEPARTMENT OF HEALTH AND HUMAN SERVICES

Centers for Medicare & Medicaid Services

[Document Identifier CMS-370, CMS-377, and CMS-378; CMS-381; CMS-10145; and CMS-10362]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Titles of Information Collection: (CMS-370) Health Insurance Benefits Agreement, (CMS-377) ASC Request for Certification or Update of Certification Information in the Medicare Program, and (CMS-378) Ambulatory Surgical Center (ASC) Survey Report Form; Use: CMS-370 has not been revised and will continue to be used to establish eligibility for payment under Title XVIII of the Social Security Act (the “Act”). As revised, CMS-377 will be used to collect facility-specific characteristics that facilitate CMS' oversight of ASCs. The data also enables CMS to respond to inquiries from the Congress, GAO, and the OIG concerning the characteristics of Medicare-participating ASCs. The data base that supports survey and certification activities will be revised to reflect changes in the data fields on this revised form, such as the data on the types of surgical procedures performed in the ASC. CMS-378 will be discontinued since it duplicates information collected by other means; Form Numbers: CMS-370, -377 and -378 (OCN: 0938-0266); Frequency: Occasionally; Affected Public: Private Sector: Business or other for-profit and Not-for-profit institutions; Number of Respondents: 7,213; Total Annual Responses: 1,795; Total Annual Hours: 648. (For policy questions regarding this collection contact Gail Vong at 410-786-0787. For all other issues call 410-786-1326.)

2. Type of Information Collection Request: Extension of a currently approved collection; Title of Information Collection: Identification of Extension Units of Medicare Approved Outpatient Physical Therapy/Outpatient Speech Pathology (OPT/OSP) Providers and Supporting Regulations in 42 CFR 485.701-485.729; Use: The collected information is used in conjunction with 42 CFR 485.701 through 485.729 governing the operation of providers of outpatient physical therapy and speech-language pathology services. The provider uses the form to report to the State survey agency extension locations that it has added since the date of last report. The form is used by the State survey agencies and by the CMS regional offices to identify and monitor extension locations to ensure their compliance with the Federal requirements for the providers of outpatient physical therapy and speech-language pathology services; Form Number: CMS-381 (OMB #: 0938-0273); Frequency: Annually; Affected Public: Private Sector; Business or other for-profit and not-for-profit institutions; Number of Respondents: 2,960; Total Annual Responses: 2,960; Total Annual Hours: 740. (For policy questions regarding this collection contact Georgia Johnson at 410-786-6859. For all other issues call 410-786-1326.)

3. Type of Information Collection Request: Extension without change of a currently approved collection; Title of Information Collection: Medicare Part B Drug and Biological Competitive Acquisition Program (CAP) and Supporting Regulations in 42 CFR Sections 414.906, 414.908, 414.910, 414.914, 414.916, and 414.917; Use: Section 303(d) of the Medicare Prescription Drug, Improvement, and Modernization Act of 2003 (MMA) provides an alternative payment methodology for Part B covered drugs that are not paid on a cost or prospective payment basis. In particular, Section 303(d) of the MMA amends Title XVIII of the Social Security Act by adding a new section 1847B, which establishes a competitive acquisition program for the acquisition of and payment for Part B covered drugs and biologicals furnished on or after January 1, 2006. Since its inception, additional legislation has augmented the CAP. Section 108 of the Medicare Improvements and Extension Act under Division B, Title I of the Tax Relief Health Care Act of 2006 (MIEA-TRHCA) amended Section 1847b(a)(3) of the Social Security Act and requires that CAP implement a post payment review process. This procedure is done to assure that payment is made for a drug or biological under this section only if the drug or biological has been administered to a beneficiary. Form Number: CMS-10145 (OCN: 0938-0945); Frequency: Weekly, quarterly and occasionally; Affected Public: Private sector—Business or other for-profit and Not-for-profit institutions; Number of Respondents: 3000; Total Annual Responses: 156,020; Total Annual Hours: 31,208. (For policy questions regarding this collection contact Karen Hill at 410-786-5607. For all other issues call 410-786-1326.)

4. Type of Information Collection Request: New collection; Title of Information Collection: Autism Spectrum Disorders (ASD): State of the States Services and Supports for People with ASD; Use: The information that is collected in the interviews will be used to communicate additional information about services available to people with ASD and the public policy issues that affect people with ASD to key stakeholder audiences. The format of the report will include data tables from various State programs and narrative about the data being presented based on the interviews with State agency staff. We propose interviewing multiple staff in each State because several State agencies have an impact on services and supports for people with ASD; Form Number: CMS-10362 (OCN: 0938-New); Frequency: Once; Affected Public: State, local, or Tribal Governments; Number of Respondents: 459; Total Annual Responses: 459; Total Annual Hours: 803. (For policy questions regarding this collection contact Ellen Blackwell at 410-786-4498. For all other issues call 410-786-1326.)

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on July 11, 2011.

OMB, Office of Information and Regulatory Affairs, Attention: CMS Desk Officer, Fax Number: (202) 395-6974, E-mail: oira_submission@omb.eop.gov.

Dated: June 3, 2011.
Michelle Shortt,
Director, Regulations Development Group, Office of Strategic Operations and Regulatory Affairs.

[FR Doc. 2011-14226 Filed 6-9-11; 8:45 am]

BILLING CODE 4120-01-P